NATIONAL AERONAUTICS AND SPACE ADMINISTRATION

[Notice (15-019)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: April 1, 2015.

FOR FURTHER INFORMATION CONTACT: Robert H. Earp, III, Patent Attorney, Glenn Research Center at Lewis Field, Code 21-14, Cleveland, OH 44135; telephone (216) 433-3663; fax (216) 433-6790.

NASA Case No.: LEW-19240-1: Advanced Protective Coatings for Graphite Substrates;

NASA Case No.: LEW-19132-1: The Vibration Ring;

NASA Case No.: LEW-19098-1: High Temperature, Flexible Composite Seals for Aeronautics and Space Environments Incorporation Aerogel Insulation;

NASA Case No.: LEW-19121-1: Propellant Distributor/Anode with Downstream Plenum Chamber for the Hall Thruster;

NASA Case No.: LEW-19148-1: High/Low Temperature Contactless RF Probes for Characterizing Microwave Integrated Circuits (MICs) and Devices;

NASA Case No.: LEW-18844-2: Electrospun Nanofiber Coating of Fiber Materials: A Composite Toughening Approach;

NASA Case No.: LEW-18928-1: Pt-Ti-Si Simultaneous Ohmic Contacts to N- and P-Type Silicon Carbide.

Sumara M. Thompson-King,
General Counsel.

[FR Doc. 2015-07453 Filed 3-31-15; 8:45 am]

BILLING CODE 7510-13-P